DEPARTMENT OF ENERGY

Federal Energy Regulatory Commission

Combined Notice of Filings # 1

January 25, 2007.

Take notice that the Commission received the following electric corporate filings:

Docket Numbers: EC07-40-000.

Applicants: T. Rowe Price Group, Inc.; T. Rowe Price Associates, Inc.; T. Rowe Price International, Inc.; T. Rowe Price Global Investment Services Limited; T. Rowe Price Global Asset Management Limited; T. Rowe Price (Canada), Inc.; T. Rowe Price Trust Company; T. Rowe Price Trust Company; T. Rowe Price (Luxembourg) management S.àr.l.; T. Rowe Price Savings Bank.

Description: T. Rowe Price Group, Inc. submits an amendment and restate the first two conditions and limitations listed on page 3 of the application for blanket authorizations to acquire and dispose of securities.

Filed Date: 01/22/2007.

Accession Number: 20070124-0017.

Comment Date: 5 p.m. Eastern Time on Thursday, February 1, 2007.

Take notice that the Commission received the following electric rate filings:

Docket Numbers: ER97-837-006; ER99-3151-007.

Applicants: PSEG Energy Resources & Trade LLC; Public, Service Electric and Gas Company.

Description: PSEG Energy Resources & Trade LLC and Public, Service Electric & Gas Co submit amendments to, their joint triennial market power report.

Filed Date: 01/22/2007.

Accession Number: 20070124-0021.

Comment Date: 5 p.m. Eastern Time on Monday, February 12, 2007.

Docket Numbers: ER99-2774-016; ER07-191-003; ER07-189-003; ER07-190-003; ER00-826-009; ER98-421-020; ER98-4055-017; ER01-1337-012; ER02-177-013; ER03-1212-011; ER01-1820-011; ER07-188-003; ER03-956-012.

Applicants: Duke Energy Trading & Marketing, LLC; Duke Energy Ohio, Inc.; Duke Energy Indiana, Inc.; Duke Energy Kentucky, Inc.; Brownsville Power I, L.L.C.; CinCap IV, LLC; CinCap V, LLC; Cinergy Capital & Trading, Inc.; St. Paul Cogeneration, LLC; Cinergy Operating Companies; Duke Energy Carolinas, LLC; Duke Energy Marketing America, LLC.

Description: Duke Energy et al submits a notice of non-material change in status.

Filed Date: 01/19/2007.

Accession Number: 20070123-0085.

Comment Date: 5 p.m. Eastern Time on Friday, February 09, 2007.

Docket Numbers: ER07-54-001.

Applicants: Berkshire Power Company, LLC.

Description: Berkshire Power Company, LLC submits proposed revisions to its Rate Schedule FERC 2 to correct the rate schedule designation.

Filed Date: 01/18/2007.

Accession Number: 20070124-0262.

Comment Date: 5 p.m. Eastern Time on Thursday, February 08, 2007.

Docket Numbers: ER07-452-000.

Applicants: Midwest Independent Transmission System Operator, Inc.

Description: Midwest Independent Transmission System Operator, Inc. submits compliance filing to confirm that the current version of the North American Electric, Reliability Council Transmission Loading Relief are incorporated in Attachment Q.

Filed Date: 12/13/2006.

Accession Number: 20061218-0138.

Comment Date: 5 p.m. Eastern Time on Monday, February 05, 2007.

Any person desiring to intervene or to protest in any of the above proceedings must file in accordance with Rules 211 and 214 of the Commission's Rules of Practice and Procedure (18 CFR 385.211 and § 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Magalie R. Salas,
Secretary.

[FR Doc. E7-1660 Filed 2-1-07; 8:45 am]

BILLING CODE 6717-01-P